NUCLEAR REGULATORY COMMISSION

[Docket Nos. 52-025 and 52-026; NRC-2008-0252]

Southern Nuclear Operating Company, Inc.; Vogtle Electric Generating Plant, Units 3 and 4 Inspections, Tests, Analyses, and Acceptance Criteria

AGENCY: Nuclear Regulatory Commission.

ACTION: Determination of the successful completion of inspections, tests, and analyses.

SUMMARY: The U.S. Nuclear Regulatory Commission (NRC) staff has determined that specified inspections, tests, and analyses have been successfully completed, and that specified acceptance criteria are met for the Vogtle Electric Generating Plant (VEGP), Units 3 and 4.

DATES: Determinations of the successful completion of inspections, tests, and analyses for VEGP Units 3 and 4 are effective on the dates indicated in the NRC staff's verification evaluation forms for the inspections, tests, analyses, and acceptance criteria (ITAAC).

ADDRESSES: Please refer to Docket ID NRC-2008-0252 when contacting the NRC about the availability of information regarding this document. You may obtain publicly available information related to this document using any of the following methods:

• Federal Rulemaking Website: Go to https://www.regulations.gov and search for Docket ID NRC-2008-0252. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced in this document (if that document is available in ADAMS) is provided the first time that a document is referenced.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

FOR FURTHER INFORMATION CONTACT: Cayetano Santos, Office of Nuclear Reactor Regulation, U.S. Nuclear Regulatory Commission, Washington, DC 20555-0001; telephone: 301-415-7270, email: Cayetano.Santos@nrc.gov.

SUPPLEMENTARY INFORMATION:

I. Licensee Notification of Completion of ITAAC

Southern Nuclear Operating Company, Inc. Georgia Power Company, Oglethorpe Power Corporation, MEAG Power SPVM, LLC., MEAG Power SPVJ, LLC., MEAG Power SPVP, LLC., and the City of Dalton, Georgia, (hereafter called SNC or the licensee) has submitted ITAAC closure notifications (ICNs) under section 52.99(c)(1) of title 10 of the Code of Federal Regulations (10 CFR), informing the NRC that the licensee has successfully performed the required inspections, tests, and analyses, and that the acceptance criteria are met for:

VEGP Unit 3 ITAAC

2.1.01.04 (4), 2.1.02.08b (30), 2.1.02.09a (41), 2.1.02.09b.ii (43),, 2.1.02.11a.ii (47), 2.1.02.12a.iv (56), 2.1.02.15 (67), 2.1.03.07.i (78), 2.2.01.02a (91), 2.2.01.07.ii (108), 2.2.01.08 (109), 2.2.01.11a.iii (116), 2.2.01.11b (118), 2.2.02.01 (119), 2.2.02.02a (120), 2.2.02.11a.i (154), 2.2.03.01 (158), 2.2.03.08b.01 (175), 2.2.03.08c.vii (192), 2.2.03.08c.viii (193), 2.2.03.08c.ix (194), 2.2.03.12a.i (214), 2.2.04.02a (220), 2.2.04.12a.i (248), 2.3.02.02a (285), 2.3.02.05.i (291), 2.3.03.03c (322), 2.3.03.04 (324), 2.3.06.05a.i (361), 2.3.06.09b.ii (375), 2.3.07.02a (392), 2.3.07.07c (408), 2.3.10.05a.i (437), 2.3.13.02 (459), 2.3.13.05.i (462), 2.5.01.03e (515), 2.5.05.02.i (565), 2.5.05.03b (570), 2.5.05.04 (572), 2.6.06.01.i (637), 2.6.09.05a (644), C.2.6.09.03a (660), C.2.6.09.03b (661), C.2.6.09.09 (670), 2.7.04.03 (716), 3.3.00.01 (759), 3.3.00.02a.i.c (762), 3.3.00.02a.i.d (763), 3.3.00.07d.iv.a (806), 3.3.00.07d.iv.b (807), 3.3.00.07d.iv.c (808), 3.3.00.07d.v.a (809), 3.3.00.07d.v.b (810), 3.3.00.07d.v.c (811), 3.3.00.10.i (815), 3.3.00.10.ii (816), and E.3.9.06.00.04 (862).

VEGP Unit 4 ITAAC

2.2.03.08c.xii (197), 2.5.05.02.i (565) and 2.5.05.03b (570).

The ITAAC for VEGP Unit 3 are in Appendix C of the VEGP Unit 3 combined license (ADAMS Accession No. ML14100A106). The ITAAC for VEGP Unit 4 are in Appendix C of VEGP Unit 4 combined license (ADAMS Accession No. ML14100A135).

II. Licensee ITAAC Post-Closure Notifications (IPCNs)

SNC has submitted an ITAAC IPCN under 10 CFR 52.99(c)(2), informing the NRC of new information that materially alters the basis for determining either that inspections, tests, or analyses was performed as required, or that acceptance criteria is met for:

VEGP Unit 3 ITAAC

2.5.02.07a (534).

VEGP Unit 4 ITAAC

Since the last Federal Register notice of the NRC staff's determinations of successful completion of inspections, tests, and analyses (86 FR 50381; September 8, 2021), the NRC staff has not made additional determinations of the successful completion of inspections, tests, and analyses based on licensee IPCNs submitted under 10 CFR 52.99(c)(2).

The ITAAC for VEGP Unit 3 are in Appendix C of the VEGP Unit 3 combined license (ADAMS Accession No. ML14100A106). The ITAAC for VEGP Unit 4 are in Appendix C of VEGP Unit 4 combined license (ADAMS Accession No. ML14100A135).

III. NRC Staff Determination of Completion of ITAAC

The NRC staff has determined that the specified inspections, tests, and analyses have been successfully completed, and that the specified acceptance criteria are met. The documentation of the NRC staff's determination is in the ITAAC Closure Verification Evaluation Form (VEF) for each ITAAC. The VEF is a form that represents the NRC staff's structured process for reviewing ICNs and IPCNs.

Each ICN presents a narrative description of how the ITAAC was completed. The NRC's ICN review process involves a determination on whether, among other things: (1) Each ICN provides sufficient information, including a summary of the methodology used to perform the ITAAC, to demonstrate that the inspections, tests, and analyses have been successfully completed; (2) each ICN provides sufficient information to demonstrate that the acceptance criteria of the ITAAC are met; and (3) any NRC inspections for the ITAAC have been completed and any ITAAC findings associated with that ITAAC have been closed. The NRC's review process for IPCNs is similar to that for ICNs but focuses on how the licensee addressed the new, material information giving rise to the IPCN.

The NRC staff's determination of the successful completion of these ITAAC is based on information available at this time and is subject to the licensee's ability to maintain the condition that the acceptance criteria are met. If the NRC staff receives new information that suggests the NRC staff's determination on any of these ITAAC is incorrect, then the NRC staff will determine whether to reopen that ITAAC (including withdrawing the NRC staff's determination on that ITAAC). The NRC staff's determination will be used to support a subsequent finding, pursuant to 10 CFR 52.103(g), at the end of construction that all acceptance criteria in the combined license are met. The ITAAC closure process is not finalized for these ITAAC until the NRC makes an affirmative finding under 10 CFR 52.103(g). Any future updates to the status of these ITAAC can be found by selecting the link “ITAAC Status Report” on the NRC's websites: https://www.nrc.gov/reactors/new-reactors/col-holder/vog3.html and https://www.nrc.gov/reactors/new-reactors/col-holder/vog4.html.

This notice fulfills the NRC staff's obligations under 10 CFR 52.99(e)(1) to publish a notice in the Federal Register of the NRC staff's determination of the successful completion of inspections, tests, and analyses.

Vogtle Electric Generating Plant Unit 3, Docket No. 5200025

A complete list of the review status for VEGP Unit 3 ITAAC, including the submission date and ADAMS accession number for each ICN received, the ADAMS accession number for each VEF, and the ADAMS accession numbers for the inspection reports associated with these specific ITAAC can be found by selecting the link “ITAAC Status Report” at the NRC's website https://www.nrc.gov/reactors/new-reactors/col-holder/vog3.html.

Vogtle Electric Generating Plant Unit 4, Docket No. 5200026

A complete list of the review status for VEGP Unit 4 ITAAC, including the submission date and ADAMS accession number for each ICN and IPCN received, the ADAMS accession number for each VEF, and the ADAMS accession numbers for the inspection reports associated with these specific ITAAC, can be found by selecting the link “ITAAC Status Report” at the NRC's website https://www.nrc.gov/reactors/new-reactors/col-holder/vog4.html.

Dated: January 27, 2022.
For the Nuclear Regulatory Commission.
Victor E. Hall,
Chief, Vogtle Project Office, Office of Nuclear Reactor Regulation.

[FR Doc. 2022-02062 Filed 2-1-22; 8:45 am]

BILLING CODE 7590-01-P